DEPARTMENT OF LABOR

Employment and Training Administration

[TA-W-58,745]

Duffy Tool & Stamping, LLC., Muncie, IN; Notice of Termination of Investigation

Pursuant to section 221 of the Trade Act of 1974, as amended, an investigation was initiated on January 30, 2006 in response to a worker petition filed by the International Union, United Automobile, Aerospace and Agricultural Implement Workers of America (UAW), Local 3054 on behalf of workers of Duffy Tool & Stamping, LLC., Muncie, Indiana.

The petitioner has requested that the petition be withdrawn. Consequently, the investigation has been terminated.

Signed at Washington, DC, this 3rd day of March, 2006.
Linda G. Poole,
Certifying Officer, Division of Trade Adjustment Assistance.

[FR Doc. E6-4128 Filed 3-21-06; 8:45 am]

BILLING CODE 4510-30-P